FEDERAL RESERVE SYSTEM

Agency Information Collection Activities: Announcement of Board Approval Under Delegated Authority and Submission to OMB

AGENCY: Board of Governors of the Federal Reserve System

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -- Michelle Long--Division of Research and Statistics, Board of Governors of the Federal Reserve System, Washington, DC 20551 (202-452-3829).

OMB Desk Officer -- Mark Menchik--Office of Information and Regulatory Affairs, Office of Management and Budget, New Executive Office Building, Room 10235, Washington, DC 20503, or email to mmenchik@omb.eop.gov.

Final approval under OMB delegated authority of the extension for three years, without revision, of the following report:

1. Report title: Bank Holding Company Report of Insured Depository Institutions' Section 23A Transactions with Affiliates

Agency form number: FR Y-8

OMB control number: 7100-0126

Frequency: Quarterly

Reporters: All top-tier bank holding companies (BHCs), including financial holding companies (FHCs), and foreign banking organizations (FBOs) that directly own U.S. subsidiary banks.

Annual reporting hours: 53,419 hours

Estimated average hours per response: Institutions with covered transactions: 7.8 hours; institutions without covered transactions: 1 hour

Number of respondents: 6,310

General description of report: This information collection is mandatory (section 5(c) of the Bank Holding Company Act (12 U.S.C. 1844(c)) and section 225.5(b) of Regulation Y (12 CFR 225.5(b)) and is given confidential treatment (5 U.S.C 552(b)(4) and (8)).

Abstract: This reporting form collects information on transactions between an insured depository institution and its affiliates that are subject to section 23A of the Federal Reserve Act. The primary purpose of the data is to enhance the Federal Reserve's ability to monitor bank exposures to affiliates and to ensure banks' compliance with section 23A of the Federal Reserve Act. Section 23A of the Federal Reserve Act is one of the most important statutes on limiting exposures to individual institutions and protecting against the expansion of the federal safety net.

Discontinuation of the following reports:

1. Report title: Weekly Report of Eurodollar Liabilities Held by Selected U.S. Addressees at Foreign Offices of U.S. Banks

Agency form number: FR 2050

OMB Control number: 7100-0068

Effective Date: Respondents submitted their final data for the reporting week ending March 6, 2006.

Frequency: Weekly

Reporters: Foreign branches and banking subsidiaries of U.S. depository institutions.

Annual reporting hours: 1,872 hours

Estimated average hours per response: 1.0 hour

Number of respondents: 36

General description of report: This information collection is voluntary (12 U.S.C.§§ 248(a)(2), 353 et seq., 461, 602, and 625). Individual respondent's data are confidential under section (b)(4) of the Freedom of Information Act (5 U.S.C. 552(b)(4)).

Abstract: This reporting form collected data on Eurodollar deposits payable to nonbank U.S. addressees from foreign branches and subsidiaries of U.S. commercial banks and Edge and agreement corporations. The data were used for the construction of the Eurodollar component of the monetary aggregates and for analysis of banks' liability management practices.

Current Actions: The Board of Governors of the Federal Reserve System announced on November 10, 2005, that it would cease publication of the M3 monetary aggregate on March 23, 2006. M3 does not appear to contain any additional information about economic activity that is not already embodied in M2. Moreover, the role of M3 in the monetary policy process has greatly diminished over time. The costs to the Federal Reserve and the private sector of collecting data and publishing M3 now outweigh the benefits. The discontinuation of this report will reduce private sector burden by 1,872 hours per year. On January 24, 2006, the Federal Reserve published a notice soliciting comments on the proposed discontinuance to the FR 2050 reporting form (71 FR 3844). The comment period ended on March 27, 2006. The Federal Reserve did not receive any comments on the discontinuance.

2. Report title: Report of Repurchase Agreements (RPs) on U.S. Government and Federal Agency Securities with Specified Holders

Agency form number: FR 2415

OMB Control number: 7100-0074

Effective Date: Weekly reporters submitted their final FR 2415 for the report week ending March 6, 2006. Quarterly reporters submitted their final data for the week containing the last calendar day of December 2005. Annual reporters submitted their final data for the week containing June 30, 2005.

Frequency: Weekly, quarterly, or annually

Reporters: U.S chartered commercial banks, U.S branches and agencies of foreign banks, thrift institutions, and credit unions

Annual reporting hours: 2,615 hours

Estimated average hours per response: 30 minutes

Number of respondents: 84 weekly, 128 quarterly, and 350 annually

Small businesses are not affected.

General description of report: This information collection is voluntary (12 U.S.C. 248(a)(2) and 3105(b)) and is given confidential treatment (5 U.S.C. 552(b)(4)).

Abstract: This reporting form collected one data item, repurchase agreements (RPs), in denominations of $100,000 or more, in immediately-available funds, on U.S. government and federal agency securities, transacted with specified holders. Depository institutions submitted the FR 2415 weekly, quarterly or annually depending on the volume of their RPs. In general, the larger the respondent's level of RPs, the more frequent the submissions. The weekly panel submitted daily data once each week; the quarterly panel files daily data for the four one-week reporting periods that contain quarter-end dates; the annual panel submitted daily data only for the week encompassing June 30 each year. The primary purpose of the data was for construction of the RP component of the M3 monetary aggregate and for analysis of depository institutions' funding practices.

Current Actions: The Board of Governors of the Federal Reserve System announced on November 10, 2005, that it would cease publication of the M3 monetary aggregate on March 23, 2006. M3 does not appear to contain any additional information about economic activity that is not already embodied in M2. Moreover, the role of M3 in the monetary policy process has greatly diminished over time. The costs to the Federal Reserve and the private sector of collecting data and publishing M3 now outweigh the benefits. The discontinuation of this report will reduce private sector burden by 2,615 hours per year. On January 24, 2006, the Federal Reserve published a notice soliciting comments on the proposed discontinuance to the FR 2415 reporting form (71 FR 3844). The comment period ended on March 27, 2006. The Federal Reserve did not receive any comments on the discontinuance.

Board of Governors of the Federal Reserve System, April 7, 2006.
Jennifer J. Johnson
Secretary of the Board.

[FR Doc. E6-5351 Filed 4-11-06; 8:45 am]

BILLING CODE 6210-01-S